DEPARTMENT OF HOMELAND SECURITY

Coast Guard

[Docket No. USCG-2019-0036]

Chemical Transportation Advisory Committee

AGENCY: U.S. Coast Guard, Department of Homeland Security.

ACTION: Notice of Federal Advisory Committee meeting.

SUMMARY: The Chemical Transportation Advisory Committee and its subcommittee will meet in Houston, TX, to discuss committee matters relating to the safe and secure marine transportation of hazardous materials. All meetings will be open to the public.

DATES:

Meetings: The Chemical Transportation Advisory Committee subcommittee will meet on Wednesday, March 20, 2019, from 9 a.m. to 5 p.m. The full Committee will meet on Thursday, March 21, 2019, from 9 a.m. to 5 p.m. Please note that the meetings may close early if the committee has completed its business.

Comments and supporting documentation: To ensure your comments are received by committee members before the meetings, submit your written comments no later than March 6, 2019.

ADDRESSES: The meeting will be held at United States Coast Guard Sector Houston-Galveston, 13411 Hilliard St. Houston, TX 77034.

Pre-registration Information: Pre-registration is required for access to Sector Houston-Galveston. Foreign nationals participating will be required to pre-register no later than noon on February 13, 2019, to be admitted to the meeting. U.S. citizens participating will be required to pre-register no later than noon on February 20, 2018, to be admitted to the meeting. To pre-register, contact Lieutenant Commander Julie Blanchfield at julie.e.blanchfield@uscg.mil or (202) 372-1419. You will be asked to provide your name, telephone number, email, and company or group with which you are affiliated; if a foreign national, also provide your country of citizenship, passport country, country of residence, place of birth, passport number, and passport expiration date. All attendees will be required to provide a REAL-ID Act-compliant government-issued picture identification card in order to gain admittance to the base. For information on REAL ID and to check the compliance status of your state/territory, please see https://www.dhs.gov/real-id.

For information on facilities or services for individuals with disabilities or to request special assistance at the meeting, contact the Alternate Designated Federal Officer as soon as possible using the contact information provided in the FOR FURTHER INFORMATION CONTACT section of this notice.

Instructions: You are free to submit comments at any time, including orally at the meetings, but if you want committee members to review your comment before the meeting, please submit your comments no later than March 6, 2019. We are particularly interested in comments on the issues in the “Agenda” section below. You must include “Department of Homeland Security” and docket number USCG-2019-0036. Written comments may also be submitted using Federal eRulemaking Portal at https://www.regulations.gov. If you encounter difficulties with comments submission, contact the individual listed in the FOR FURTHER INFORMATION CONTACT section below. Comments received will be posted without alteration at http://www.regulations.gov, including any personal information provided. You may review the Privacy Act and Security Notice for the Federal Docket Management System at https://regulations.gov/privacyNotice.

Docket Search: For access to the docket to read documents or comments related to this notice, go to https://www.regulations.gov, type USCG-2019-0036 in the “SEARCH” box, press Enter, and then click on the item you wish to view.

FOR FURTHER INFORMATION CONTACT: Lieutenant Commander Julie Blanchfield, Alternate Designated Federal Officer of the Chemical Transportation Advisory Committee, 2703 Martin Luther King Jr. Ave. SE, Stop 7509, Washington, DC 20593-7509, Telephone 202-372-1419, Facsimile 202-372-8380, or electronic mail: julie.e.blanchfield@uscg.mil.

SUPPLEMENTARY INFORMATION: Notice of this meeting is in compliance with the Federal Advisory Committee Act, Title 5 U.S.C., Appendix.

The Chemical Transportation Advisory Committee provides advice and recommendations to the Department of Homeland Security on matters relating to the safe and secure marine transportation of hazardous materials insofar as they relate to matters within the United States Coast Guard's jurisdiction.

Agenda

March 20, 2019

The subcommittee meeting will separately address the following task statement: #13-03—Recommendations on Safety Standards for the Design of Vessels Carrying Liquefied Gas as Cargo.

The task statement and other subcommittee information is located at Homeport at the following address: https://homeport.uscg.mil/missions/ports-and-waterways/safety-advisory-committees/ctac/subcommittees-and-working-groups. The agenda for each will include the following:

(1) Introductions and review subcommittee task statement.

(2) Work on assigned tasks mentioned above.

(3) Discuss and prepare any proposed recommendations for the Chemical Transportation Advisory Committee meeting on March 21, 2019.

(4) Public comment period.

(5) Adjournment of meeting.

March 21, 2019

The agenda for the Chemical Transportation Committee meeting on Thursday, March 21, 2019, is as follows:

(1) Introductions and opening remarks.

(2) Swear in newly appointed committee members, and thank outgoing members.

(3) Review of March 8, 2018, meeting minutes and status of task items.

(4) U.S. Coast Guard Leadership Remarks.

(5) Chairman's and Designated Federal Officer's remarks.

(6) Committee will review, discuss, and formulate recommendations on the following items:

a. Task Statement #13-03: Recommendations on Safety Standards for the Design of Vessels Carrying Liquefied Gas as Cargo.

(7) United States Coast Guard update on International Maritime Organization

activities as they relate to the marine transportation of hazardous materials.

(8) Presentation of interest related to safe and secure shipment of hazardous

materials.

(9) New business and subcommittee recommendation discussion.

(10) Set next meeting date and location.

(11) Public comment period.

(12) Adjournment of meeting.

A public oral comment period will be held during the subcommittee and the full committee meeting concerning matters being discussed. Speakers are requested to limit their comments to 3 minutes. Please note that the public comment period may end before the time indicated, following the last call for comments. Please contact the individual listed in the FOR FURTHER INFORMATION CONTACT section, to register as a speaker.

A copy of all meeting documentation will be available at https://homeport.uscg.mil/missions/ports-and-waterways/safety-advisory-committees/ctac/full-committee-meetings no later than March 14, 2019. Alternatively, you may contact Lieutenant Commander Julie Blanchfield as noted in the FOR FURTHER INFORMATION CONTACT section above.

Dated: February 11, 2019.
Jeffrey G. Lantz,
Director of Commercial Regulations and Standards.

[FR Doc. 2019-02488 Filed 2-14-19; 8:45 am]

BILLING CODE 9110-04-P